DEPARTMENT OF THE INTERIOR

Bureau of Land Management

[18X.LLID933000.L14400000.ET0000; IDI-38117]

Public Land Order No. 7872; Withdrawal of National Forest System Land for the Dump Creek Diversion Ditch, Idaho

AGENCY: Bureau of Land Management, Interior.

ACTION: Public Land Order.

SUMMARY: This Order withdraws 107.02 acres of National Forest System land from location and entry under the United States mining laws for a period of 20 years to protect the Dump Creek Diversion Ditch within the Salmon National Forest. The purpose of this withdrawal is to ensure the continued conservation of the aquatic and riparian habitats, and to protect the Federal watershed investments in the Salmon River Drainage.

DATES: This Public Land Order takes effect on August 20, 2018.

FOR FURTHER INFORMATION CONTACT: Jeff Cartwright, Bureau of Land Management (BLM), Idaho State Office (208) 373-3885. Persons who use a telecommunications device for the deaf (TDD) may call the Federal Relay Service (FRS) at 1-800-877-8339 to reach the Bureau of Land Management contact during normal business hours. The FRS is available 24 hours a day, 7 days a week, to leave a message or question with the above individual. You will receive a reply during normal business hours.

SUPPLEMENTARY INFORMATION: This order withdraws the land on behalf of the United States Forest Service for the purpose of preserving the existing groundwater regime and to protect the integrity of the reclamation and watershed stabilization and investment of Federal funds within the Dump Creek project.

Order

By virtue of the authority vested in the Secretary of the Interior by Section 204 of the Federal Land Policy and Management Act of 1976, 43 U.S.C. 1714, it is ordered as follows:

1. Subject to valid existing rights, the following described National Forest System land is hereby withdrawn from location and entry under the United States mining laws for a period of 20 years to preserve the existing groundwater regime and to protect the integrity of the reclamation and watershed stabilization and investment of Federal funds within the Dump Creek project. The land will remain open to discretionary uses.

Salmon National Forest

Boise Meridian

T. 23 N., R. 20 E.,

Secs. 12, 13, and 24.

Beginning at USLM No. 4, Eureka Mining District, said Monument No. 4 being more particularly located in the unsurveyed NW¼SE¼ Section 24. From point of beginning, North 4°32′52″ East 5061.93 feet to Corner No. 1, the True Point of Beginning, said Corner being identical with Corner No. 1 Lemhi Gold Placer, as shown on Moose Creek Hydraulic Placer Mineral Survey Plat No. 3057. Thence North 0°01′ West, 4109.7 feet along the west line of Lemhi Gold Placer to a point at the intersection of line 1-2 of Rocky Mountain Placer, MS No. 1867, which point lies North 58°56′ West, 58.1 feet from Corner No. 1 of MS No. 1867 and said point being Corner No. 2 of herein described lands; Thence North 58°56′ West, along line 1-2 of MS No. 1867 for a distance of 817.35 feet to Corner No. 3; Thence South 0°01′ East, 4529.24 feet to Corner No. 4; Thence South 8°33′ East, 1877.1 feet to Corner No. 5; Thence South 89°49′ East, 883 feet to Corner No. 6, said Corner No. 6 being identical with Corner No. 4 of Moose Creek Hydraulic Placer MS 3057; Thence North 8°33′ West, 1877.1 feet along the west line of said Moose Creek Hydraulic Placer to Corner No. 7 said Corner No. 7 being identical with Corner No. 5 of MS No. 3057; Thence North 89°49′ West, 183 feet to Corner No. 1, the True Point of Beginning.

The area described aggregates 107.02 acres in Lemhi County.

2. The withdrawal made by this order does not alter the applicability of the general land laws governing the use of National Forest System land under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f) the Secretary determines that the withdrawal shall be extended.

Dated: July 9, 2018.
Joseph R. Balash,
Assistant Secretary, Land and Minerals Management.

[FR Doc. 2018-17870 Filed 8-17-18; 8:45 am]

BILLING CODE 3410-11-P